DEPARTMENT OF TRANSPORTATION

Federal Aviation Administration

14 CFR Part 39

[Docket No. FAA-2006-24694; Directorate Identifier 2006-NM-018-AD; Amendment 39-14697; AD 2006-15-16]

RIN 2120-AA64

Airworthiness Directives; Raytheon (Beech) Model 400 and 400A Series Airplanes

AGENCY: Federal Aviation Administration (FAA), Department of Transportation (DOT).

ACTION: Final rule.

SUMMARY: The FAA is adopting a new airworthiness directive (AD) for certain Raytheon (Beech) Model 400 and 400A series airplanes. This AD requires, among other actions, reviewing the airplane logbook to determine whether certain generator control unit (GCU) installation kits are installed, and replacing any incorrect GCU. This AD results from reports of over-voltage conditions of the direct current (DC) starter generator. We are issuing this AD to prevent such over-voltage conditions due to the incompatibility between certain GCUs, which could result in the loss of normal electrical power, damage to some electrical components, or blown fuses during flight, and consequent unrecoverable loss of some or all essential equipment.

DATES: This AD becomes effective September 5, 2006.

The Director of the Federal Register approved the incorporation by reference of a certain publication listed in the AD as of September 5, 2006.

ADDRESSES: You may examine the AD docket on the Internet at http://dms.dot.gov or in person at the Docket Management Facility, U.S. Department of Transportation, 400 Seventh Street, SW., Nassif Building, Room PL-401, Washington, DC.

Contact Raytheon Aircraft Company, Department 62, P.O. Box 85, Wichita, Kansas 67201-0085, for service information identified in this AD.

FOR FURTHER INFORMATION CONTACT: Philip Petty, Aerospace Engineer, Electrical Systems and Avionics, ACE-119W, FAA, Wichita Aircraft Certification Office, 1801 Airport Road, room 100, Mid-Continent Airport, Wichita, Kansas 67209; telephone (316) 946-4139; fax (316) 946-4107.

SUPPLEMENTARY INFORMATION:

Examining the Docket

You may examine the airworthiness directive (AD) docket on the Internet at http://dms.dot.gov or in person at the Docket Management Facility office between 9 a.m. and 5 p.m., Monday through Friday, except Federal holidays. The Docket Management Facility office (telephone (800) 647-5227) is located on the plaza level of the Nassif Building at the street address stated in the ADDRESSES section.

Discussion

The FAA issued a notice of proposed rulemaking (NPRM) to amend 14 CFR part 39 to include an AD that would apply to certain Raytheon (Beech) Model 400 and 400A series airplanes. That NPRM was published in the Federal Register on May 9, 2006 (71 FR 26877). That NPRM proposed to require, among other actions, reviewing the airplane logbook to determine whether certain generator control unit (GCU) installation kits are installed, and replacing any incorrect GCU.

Comments

We provided the public the opportunity to participate in the development of this AD. We received no comments on the NPRM or on the determination of the cost to the public.

Conclusion

We have carefully reviewed the available data and determined that air safety and the public interest require adopting the AD as proposed.

Costs of Compliance

There are about 43 airplanes of the affected design in the worldwide fleet. This AD will affect about 40 airplanes of U.S. registry. The required inspection will take about 1 work hour per airplane, at an average labor rate of $80 per work hour. Based on these figures, the estimated cost of the AD for U.S. operators is $3,200, or $80 per airplane.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979); and

(3) Will not have a significant economic impact, positive or negative, on a substantial number of small entities under the criteria of the Regulatory Flexibility Act.

We prepared a regulatory evaluation of the estimated costs to comply with this AD and placed it in the AD docket. See the ADDRESSES section for a location to examine the regulatory evaluation.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by adding the following new airworthiness directive (AD):

2006-15-16 Raytheon Aircraft Company (Formerly Beech): Amendment 39-14697. Docket No. FAA-2006-24694; Directorate Identifier 2006-NM-018-AD.

Effective Date

(a) This AD becomes effective September 5, 2006.

Affected ADs

(b) None.

Applicability

(c) This AD applies to the airplanes identified in Table 1 of this AD, certificated in any category.

Table 1.—Applicability
Raytheon (Beech) model— | Serials— | On which—
(1) 400 series airplanes | RJ-1 through RJ-65 inclusive | Kit part number (P/N) 128-3004-1 P or 128-3004-3 P has been incorporated (Lucas Aerospace/Goodrich Direct Current (DC) Starter Generator).
(2) 400A series airplanes | RK-1 through RK-23 inclusive | Kit P/N 128-3004-1 P or 128-3004-3 P has been incorporated (Lucas Aerospace/Goodrich DC Starter Generator).

Unsafe Condition

(d) This AD results from reports of over-voltage conditions of the DC starter generator. We are issuing this AD to prevent over-voltage conditions of the DC starter generator due to the incompatibility between certain generator control units (GCUs), which could result in the loss of normal electrical power, damage to some electrical components, or blown fuses during flight, and consequent unrecoverable loss of some or all essential equipment.

Compliance

(e) You are responsible for having the actions required by this AD performed within the compliance times specified, unless the actions have already been done.

Service Bulletin

(f) The term “service bulletin,” as used in this AD, means the Accomplishment Instructions of Raytheon Service Bulletin SB 24-3713, dated November 2005.

Review of Logbook

(g) Within 200 flight hours or 6 months after the effective date of this AD, whichever occurs first, review the airplane logbook to determine whether GCU installation kit, P/N 128-3001-1 P or 128-3001-3 P, is installed, in accordance with the service bulletin.

Installation Kit Not Found Installed: Replacement of Shinko GCUs

(h) If no GCU installation kit, P/N 128-3001-1 P or 128-3001-3 P, is found installed or if the kit P/N cannot be conclusively determined during the review required by paragraph (g) of this AD: Within 200 flight hours or 6 months after the effective date of this AD, whichever occurs first, replace the Shinko GCUs with new Lucas Aerospace/Goodrich GCUs (installation kit P/N 128-3001-1 P or 128-3001-3 P), in accordance with the service bulletin.

Installation Kit Found Installed: Inspections of GCUs and Current Sense Transformers and Replacement of Transformers as Applicable

(i) If any GCU installation kit, P/N 128-3001-1 P or 128-3001-3 P is found installed during the review required by paragraph (g) of this AD: Within 200 flight hours or 6 months after the effective date of this AD, whichever occurs first, inspect to determine the P/N of both GCUs, in accordance with the service bulletin; and at the times specified in Table 2 of this AD, do the applicable action(s) in that table.

Table 2.—Inspection and Replacement of Current Sense Transformers
If— | Then, within 200 flight hours or 6 months after the effective date of this AD, whichever occurs first— | If— | Then—
(1) Both GCUs have P/N 45AS88801-19 or -25 | Inspect to determine the P/N of both current sense transformers on the lower inboard quadrant of the left-hand and right-hand engine inlets, in accordance with the service bulletin | Both current sense transformers have P/N 45AS88801-21 Either current sense transformer is not identified with P/N 45AS88801-21 | No further action is required by this AD. Within 200 flight hours or 6 months after the effective date of this AD, whichever occurs first, replace the current sense transformer with a new transformer, P/N 45AS88801-21, in accordance with the service bulletin.
(2) Either GCU does not have P/N 45AS88801-19 or -25 | Replace the GCU with a new GCU, P/N 45AS88801-19 or -25, and inspect to determine the P/N of both current sense transformers on the lower inboard quadrant of the left-hand and right-hand engine inlets, in accordance with the service bulletin | Both current sense transformers have P/N 45AS88801-21 Either current sense transformer is not identified with P/N 45AS88801-21 | No further action is required by this AD. Within 200 flight hours or 6 months after the effective date of this AD, whichever occurs first, replace the current sense transformer with a new transformer, P/N 45AS88801-21, in accordance with the service bulletin.

Alternative Methods of Compliance (AMOCs)

(j)(1) The Manager, Wichita Aircraft Certification Office, FAA, has the authority to approve AMOCs for this AD, if requested in accordance with the procedures found in 14 CFR 39.19.

(2) Before using any AMOC approved in accordance with § 39.19 on any airplane to which the AMOC applies, notify the appropriate principal inspector in the FAA Flight Standards Certificate Holding District Office.

Material Incorporated by Reference

(k) You must use Raytheon Service Bulletin SB 24-3713, dated November 2005, to perform the actions that are required by this AD, unless the AD specifies otherwise. The Director of the Federal Register approved the incorporation by reference of this document in accordance with 5 U.S.C. 552(a) and 1 CFR part 51. Contact Raytheon Aircraft Company, Department 62, P.O. Box 85, Wichita, Kansas 67201-0085, for a copy of this service information. You may review copies at the Docket Management Facility, U.S. Department of Transportation, 400 Seventh Street, SW., Room PL-401, Nassif Building, Washington, DC; on the Internet at http://dms.dot.gov; or at the National Archives and Records Administration (NARA). For information on the availability of this material at the NARA, call (202) 741-6030, or go to http://www.archives.gov/federal_register/code_of_federal_regulations/ibr_locations.html.

Issued in Renton, Washington, on July 20, 2006.
Ali Bahrami,
Manager, Transport Airplane Directorate, Aircraft Certification Service.

[FR Doc. E6-12107 Filed 7-28-06; 8:45 am]

BILLING CODE 4910-13-P